DEPARTMENT OF JUSTICE

Notice of Lodging of Consent Decree Pursuant to the Comprehensive Environmental Response, Compensation, and Liability Act of 1980, as Amended

In accordance with Departmental policy, 28 CFR 50.7, 38 FR 19029, and 42 U.S.C. 9622(d), notice is hereby given that on June 14, 2000, a proposed Consent Decree (“Decree”) in the consolidated cases entitled United States v. Western Publishing Co., Inc., et al., Civil Action No. 94-CV-1247 and State of New York v. F.I.C.A. a/k/a Dutchess Sanitation Services, Inc., et al., Civil Action No. 86-CV-1136 (LEK/DNH) was lodged with the United States District Court for the Northern District of New York. The proposed Consent Decree will resolve the United States' claims, on behalf of the U.S. Environmental Protection Agency (“EPA”), and the claims of the State of New York (“State”) under the Comprehensive Environmental Response, Compensation, and Liability Act (“CERCLA”), 42 U.S.C. 9601 et seq., against defendants F.I.C.A. and the Estate of Joseph Fiorillo, Sr., as well as potential claims against Joseph Fiorillo, Jr., relating to response costs incurred and to be incurred in connection with the Hertel Landfill Superfund Site (“Site”), located in the Hamlet of Clintondale, Town of Plattekill, Ulster County, New York. The United States and the State of New York alleged in their Complaints that the defendants are liable as successors in interest to Dutchess Sanitation Services, Inc., as owners and/or operators of the Site and as transporters of hazardous substances to the Site pursuant to Section 107(a) of CERCLA, 42 U.S.C. 9607(a).

Under the terms of the Decree, the settling parties will make a cash payment of $50,000, to be divided equally between the United States and certain prior settling parties currently performing EPA's selected remedy at the Site (“performing parties”), within 5 days of execution of the Decree by the United States. The F.I.C.A. settling parties shall also permit and cooperate in the sale of various parcels of real property owned by the F.I.C.A. partnership, proceeds from which are to be paid, after deduction of real estate closing costs and satisfaction of back property taxes, equally to the United States and the performing parties. Terms of the sales of the properties are subject to the approval of the United States and the performing parties. The Decree further provides that the United States shall designate $60,000 of its share of the proceeds to be applied as a civil penalty and punitive damages, pursuant to sections 106(b)(1) and 107(c)(3) of CERCLA, 42 U.S.C. 9606(b)(1) and 9607(c)(3), in satisfaction of the United States' claim that F.I.C.A. failed or refused to comply with Administrative Order No. II CERCLA-20217 in connection with the Site. Within 30 days of entry of the Decree, F.I.C.A. will pay the State $2,000 in satisfaction of the State's claim for reimbursement of its response costs at the Site. The proposed partial consent decree provides the settling defendants with releases for civil liability under sections 106 and 107(a) of CERCLA relating to the Site through construction of the landfill cap as consideration for the payments to be made.

The Department of Justice will receive, for a period of thirty (30) days from the date of this publication, comments relating to the proposed Decree. Comments should be addressed to the Assistant Attorney General, Environment and Natural Resources Division, U.S. Department of Justice, Washington, DC 20530, and should refer to United States v. Western Publishing Co., Inc., et al., Civil Action No. 94-CV-1247 and State of New York v. F.I.C.A. a/k/a Dutchess Sanitation Services, Inc., et al., Civil Action No. 86-CV-1136 (LEK/DNH) (N.D.N.Y.), DOJ Ref. No. 90-11-2-767a.

The proposed Decree may be examined at the Office of the United States Attorney, 445 Broadway, Room 231, Albany, New York 12207 and at the Region II Office of the Environmental Protection Agency, 290 Broadway, New York, New York 10007-1866. A copy of the Decree may also be obtained by mail from the Consent Decree Library, Department of Justice, P.O. Box 7611, Washington, DC 20044-7611. In requesting a copy, please refer to the referenced case and enclose a check in the amount of $11.00 (25 cents per page reproduction costs) made payable to Consent Decree Library.

Bruce S. Gelber,
Deputy Chief, Environmental Enforcement Section, Environment and Natural Resources Division.

[FR Doc. 00-16466 Filed 6-28-00; 8:45 am]

BILLING CODE 4410-15-M